COMMISSION ON CIVIL RIGHTS

Notice of Public Meeting of the Arizona Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Arizona Advisory Committee (Committee) to the Commission will hold a series of meetings via Webex on Tuesday, January 12, Tuesday, January 19, and Tuesday, January 26, Tuesday, February 2, 2021 at 1:00 p.m. Mountain Time for the purpose of gathering testimony regarding the effects of COVID-19 on Native American Communities.

DATES: The meetings will be held on:

• Tuesday, January 12, 2021 from 1:00 p.m.-3:00 p.m. Mountain Time

• Tuesday, January 19, 2021 from 1:00 p.m.-3:00 p.m. Mountain Time

• Tuesday, January 26, 2021 from 1:00 p.m.-3:00 p.m. Mountain Time

• Tuesday, February 2, 2021 from 1:00 p.m.-3:00 p.m. Mountain Time

Access Information

Panel 1—Researchers and Academics

Tuesday, January 12th at 1:00 p.m. MT—Register at: https://tinyurl.com/y6cvbfpk

Panel 2—Advocates and Frontline Workers

Tuesday, January 19th at 1:00 p.m. MT—Register at: https://tinyurl.com/yxhstzk8

Panel 3—Healthcare Providers and Public Health Experts

Tuesday, January 26th at 1:00 p.m. MT—Register at: https://tinyurl.com/y22b8lhr

Panel 4—Government Officials

Tuesday, February 2nd at 1:00 p.m. MT—Register at: https://tinyurl.com/y4fartu5

FOR FURTHER INFORMATION CONTACT: Brooke Peery, Designated Federal Officer, (DFO) at bpeery@usccr.gov or by phone at (202) 701-1376.

SUPPLEMENTARY INFORMATION: Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012.

Records and documents discussed during the meeting will be available for public viewing prior to and after the meetings at https://www.facadatabase.gov/FACA/FACAPublicViewCommitteeDetails?id=a10t0000001gzl2AAA.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome & Opening Remarks

II. Panelist Testimony

III. Committee Q&A

IV. Public Comment

V. Adjournment

Dated: December 14, 2020.
David Mussatt,
Supervisory Chief, Regional Programs Unit.

[FR Doc. 2020-27868 Filed 12-17-20; 8:45 am]

BILLING CODE P